DEPARTMENT OF ENERGY

Federal Energy Regulatory Commission

18 CFR Part 12

Safety of Water Power Projects and Project Works

CFR Correction

In Title 18 of the Code of Federal Regulations, Parts 1 to 399, revised as of April 1, 2016, the term “Energy Projects Licensing” is replaced by the term “Energy Projects” in the following locations: Page 214, § 12.2(a) and (b) and § 12.3(b)(3); page 218, § 12.22(a)(1) introductory text and (a)(2) introductory text; and page 221, § 12.31(e), § 12.33(a), and § 12.34.

[FR Doc. 2017-04952 Filed 3-10-17; 8:45 am]

BILLING CODE 1301-00-D